DEPARTMENT OF LABOR

Employment and Training Administration

[TA-W-65,365]

International Automotive Components Group, North America, Dearborn, MI; Notice of Termination of Investigation

Pursuant to Section 221 of the Trade Act of 1974, as amended, an investigation was initiated on February 25, 2009 in response to a petition filed by a company official on behalf of workers at International Automotive Components Group, North America, Dearborn, Michigan, and including workers at plants in Rochester Hills and Plymouth, Michigan. The workers at the subject facilities are engaged in employment related to the production of automotive components.

The petitioner has requested that the petition be withdrawn. Consequently, the investigation has been terminated.

Signed in Washington, DC, this 27th day of April 2009.
Richard Church,
Certifying Officer, Division of Trade Adjustment Assistance.

[FR Doc. E9-11852 Filed 5-20-09; 8:45 am]

BILLING CODE 4510-FN-P